DEPARTMENT OF COMMERCE

Patent and Trademark Office

Agency Information Collection Activities; Submission to the Office of Management and Budget (OMB) for Review and Approval; Comment Request; Patent and PTAB Pro Bono Programs

AGENCY: United States Patent and Trademark Office, Department of Commerce.

ACTION: Notice of information collection; request for comment.

SUMMARY: The United States Patent and Trademark Office (USPTO), as required by the Paperwork Reduction Act of 1995, invites comments on the extension and revision of an existing information collection: 0651-0082 Patent and PTAB Pro Bono Programs. The purpose of this notice is to allow 60 days for public comment preceding submission of the information collection to OMB.

DATES: To ensure consideration, comments regarding this information collection must be received on or before October 31, 2022.

ADDRESSES: Interested persons are invited to submit written comments by any of the following methods. Do not submit Confidential Business Information or otherwise sensitive or protected information.

• Email: InformationCollection@uspto.gov. Include “0651-0082 comment” in the subject line of the message.

• Federal Rulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Stacey G. White, Lead Administrative Patent Judge, USPTO—Patent Trial and Appeal Board, Texas Regional Office; 207 S Houston St., Dallas, TX 75202 by telephone at (469) 295-9061; or by email to Stacey.White@uspto.gov with “0651-0082 comment” in the subject line. Additional information about this collection is also available at http://www.reginfo.gov under “Information Collection Review.”

SUPPLEMENTARY INFORMATION:

I. Abstract

The Leahy-Smith America Invents Act (AIA), Public Law 112-29 § 32 (2011) directs the USPTO to work with and support intellectual property law associations across the country in the establishment of pro bono programs designed to assist financially under-resourced independent inventors and small businesses. To support this, the USPTO—in collaboration with various non-profit organizations—implemented the Patent Pro Bono program; a series of autonomous regional hubs that act as matchmakers to help connect low-income inventors with volunteer patent attorneys across the United States. The Patent Pro Bono program comprises a network of regional hubs organized by various bar associations, law school IP clinics, and lawyer referral services that provide services across all fifty states, the District of Columbia, and Puerto Rico.

In 2022, the Patent Trial and Appeal Board (PTAB) began coordinating pro bono opportunities through the newly created PTAB Pro Bono Program, having supported the establishment of a national clearinghouse that acts as a matchmaker to connect under-resourced inventors with volunteer patent practitioners across the United States for assistance in preparing and arguing ex parte appeals before the PTAB. The PTAB Bar Association's national clearinghouse provides access to legal representation for pro bono ex parte appeal services across all fifty states and the District of Columbia.

Each pro bono program will be requesting that their respective regional hubs and a national clearinghouse collect demographic information from those seeking assistance that will be self-identified by the applicant. The requested standardized demographic information, collected through Applicant Intake Forms, will be a voluntary part of the overall application materials that each independent inventor fills out when seeking pro bono assistance. The information collected will be kept confidential by the regional hubs and the national clearinghouse and only aggregate information is shared with the USPTO. This aggregate information, will also be used to help determine the extent to which women, minorities, and veterans engage the Pro Bono Programs supported by USPTO.

This renewal of 0651-0082 broadens the scope of the information collection to include the PTAB Pro Bono Program, in addition to the Patent Pro Bono Program that was covered under this collection. The name of the information collection has been adjusted from “Pro Bono Survey” to “Patent and PTAB Pro Bono Programs” in order to include related programs under this single information collection. This information collection includes an instrument capturing data for the Patent Pro Bono program (Patent Pro Bono Survey) and its applicant participations (Patent Applicant Intake Form). The information collection also has a similar instrument that covers the collection of data for the PTAB program (PTAB Pro Bono Survey) and the applicants requesting to participate in that PTAB offering (PTAB Applicant Intake Form).

II. Method of Collection

The Pro Bono surveys will be conducted electronically through web forms created to support these surveys. Applicant Intake forms may be offered electronically or in person depending the needs of the participating organizations.

III. Data

OMB Control Number: 0651-0082.

Forms:

• USPTO/550 (Patent Pro Bono Survey)

• USPTO/551 (Patent Applicant Intake Form)

• USPTO/552 (PTAB Pro Bono Survey)

• USPTO/553 (PTAB Applicant Intake Form)

Type of Review: Extension and revision of a currently approved information collection.

Affected Public: Private sector; individuals or households.

Respondent's Obligation: Required to obtain or retain benefits.

Estimated Number of Annual Respondents: 1,763 respondents.

Estimated Number of Annual Responses: 1,832 responses.

Estimated Time per Response: The USPTO estimates that the responses in this information collection will take the public approximately between 5 minutes (0.083 hours) and 2 hours to complete. This includes the time to gather the necessary information, fill out the item, and submit the completed item to the USPTO.

Estimated Total Annual Respondent Burden Hours: 332 hours.

Estimated Total Annual Respondent Hourly Cost Burden: $16,329.

Table 1—Total Burden Hours and Hourly Costs to Pro Bono Program Respondents
Item No. | Item | Respondent type | Estimated annual respondents | Responses per respondent | Estimated annual responses | Estimated time for response (hours) | Estimated burden (hour/year) | Rate ¹ ($/hour) | Estimated annual respondent cost burden
|  |  | (a) | (b) | (a) × (b) = (c) | (d) | (c) × (d) = (e) | (f) | (e) × (f) = (g)
1 | Patent Pro Bono Survey (PTO Form 550) | Private Sector | 22 | 4 | 88 | 2 | 176 | $55.41 | $9,752
2 | Patent Applicant Intake Form (or equivalent) (PTO Form 551) | Individuals or Households | 1,700 | 1 | 1,700 | 0.083 (5 minutes) | 141 | 41.45 | 5,844
3 | PTAB Pro Bono Survey (PTAB 552) | Private Sector | 1 | 4 | 4 | 2 | 8 | 55.41 | 443
4 | PTAB Applicant Intake Form (PTAB Form 553) | Individuals or Households | 40 | 1 | 40 | 0.17 (10 minutes) | 7 | 41.45 | 290
| Totals |  | 1,763 |  | 1,832 |  | 332 |  | 16,329
¹ The hourly rate for the survey of pro bono administrators (BLS 11-1021) is based the BLS 2021 National Occupation Employment and Wage Statistics. The hourly rate for the intake form uses the average of mean rates for Engineers (17-0000) and Scientists (19-0000).

Estimated Total Annual Respondent Non-hourly Cost Burden: $1,333. There are no maintenance costs, recordkeeping costs, filing fees, or postage costs associated with this information collection. There are startup costs for the PTAB clearinghouse to create the system required to capture information which USPTO estimates will cost $4,000. This one time cost of $4,000 is annualized over a three year period for an annual cost of $1,333.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personally identifiable information (PII) in a comment, be aware that the entire comment—including PII—may be made publicly available at any time. While you may ask in your comment to withhold PII from public view, USPTO cannot guarantee that it will be able to do so.

Justin Isaac,
Acting Information Collections Officer, Office of the Chief Administrative Officer, United States Patent and Trademark Office.

[FR Doc. 2022-18598 Filed 8-29-22; 8:45 am]

BILLING CODE 3510-16-P